DEPARTMENT OF DEFENSE

GENERAL SERVICES ADMINISTRATION

NATIONAL AERONAUTICS AND SPACE ADMINISTRATION

48 CFR Parts 14 and 52

[FAC 2001-25; Item V]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: October 5, 2004.

FOR FURTHER INFORMATION CONTACT: The FAR Secretariat, Room 4035, GS Building, Washington, DC, 20405, (202) 501-4755, for information pertaining to status or publication schedules. Please cite FAC 2001-25, Technical Amendments.

List of Subjects in 48 CFR Parts 14 and 52

Government procurement.

Dated: September 28, 2004.
Ralph J. De Stefano,
Acting Director, Acquisition Policy Division.

Therefore, DoD, GSA, and NASA amend 48 CFR parts 14 and 52 as set forth below:

1. The authority citations for 48 CFR parts 14 and 52 are revised to read as follows:

Authority: 40 U.S.C. 121(c); 10 U.S.C. chapter 137; and 42 U.S.C. 2473(c).

PART 14—SEALED BIDDING

2. In section 14.403, revise paragraph (c) to read as follows:

14.403 Recording of Bids.

* * * * *

(c) The forms identified in paragraph (a) of this section need not be used by the Defense Energy Support Center for acquisitions of coal or petroleum products or by the Defense Supply Center Philadelphia for perishable subsistence items.

* * * * *

PART 52—SOLICITATION PROVISIONS AND CONTRACT CLAUSES

52.212-5 [Amended]

3. Amend section 52.212-5 in paragraph (b)(34)(ii) by removing “(Apr 1984)” and adding “(Apr 2003)” in its place.

52.215-15 [Amended]

4. Amend section 52.215-15 by revising the date of the clause to read “(OCT 2004)”.

52.217-5 [Amended]

5. Amend section 52.217-5 in the introductory paragraph by removing “17.208(c)(1)” and adding “17.208(c)” in its place.

52.219-4 [Amended]

6. Amend section 52.219-4 by revising the date of the clause to read “(OCT 2004)”; and removing “will be will be” from paragraph (d)(3) of the clause and adding “will be” in its place.

[FR Doc. 04-22248 Filed 10-4-04; 8:45 am]

BILLING CODE 6820-EP-S